DEPARTMENT OF COMMERCE

National Oceanic and Atmospheric Administration

RIN 0648-XC564

Takes of Marine Mammals Incidental to Specified Activities; Taking Marine Mammals Incidental to Marine Seismic Survey in the Beaufort Sea, Alaska

Correction

In notice document 2013-14188 appearing on pages 35851-35874 in the issue of Friday, June 14, 2013, make the following correction:

On page 35851, in the first column, in the second line of the DATES paragraph, “July 15, 2013” should read “July 11, 2013”.

[FR Doc. C1-2013-14188 Filed 6-19-13; 8:45 am]

BILLING CODE 1505-01-D